DEPARTMENT OF HEALTH AND HUMAN SERVICES

Centers for Disease Control and Prevention

[60Day-03-124]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: “Reactions to Race” Module for the General Social Survey (GSS)—New—National Center for Chronic Disease Prevention and Health Promotion (NCCDPHP), Centers for Disease Control and Prevention (CDC).

The purpose of this data collection is to understand some of the contextual, perceptual, and experiential factors associated with reactions to “race” that may contribute to racial disparities in health outcomes. CDC will fund “Reactions to Race” data collection on the 2004 General Social Survey (GSS). The Measures of Racism Working Group at CDC developed a 10-question module in the GSS.

The GSS is a biennial national population-based in-person survey conducted by the National Opinion Research Center (NORC) at the University of Chicago. GSS first data collection was in 1972. The basic purpose of the GSS is too continue “to gather data on contemporary American society in order to monitor and explain trends and constants in attitudes, behaviors, and attributes; to examine the structure and functioning of society in general as well as the role played by relevant subgroups; to compare the United States to other societies in order to place American society in comparative perspective and develop cross-national models of human society; and to make high-quality data easily accessible to scholars, students, policy makers, and others, with minimal cost and waiting” (see http://www.norc.uchicago.edu/projects/gensoc1.asp).

CDC is contracting with NORC through an existing agreement to administer the “Reactions to Race” module to the full GSS sample, consisting of 3,000 non-institutionalized U.S. adults, starting in June 2004. The questionnaire will be administered in-person by trained interviewers who have been “race”-matched with the predominant “race” of residents in each sampled area.

The distributions of responses to the questions on the “Reactions to Race” module will be examined across all respondents as well as compared by “race”. In addition, we will look at the relationship between the responses from the “Reactions to Race” module and responses to other health, attitude, and behavior questions (including a detailed assessment of experiences at work) on the 2004 GSS. These other data will provide a rich resource to help us contextualize responses to the module.

Ultimately, the results from this data collection will be useful as we examine the causes of and design interventions to eliminate racial and ethnic health disparities. There are no costs to respondents.

Respondent | Number of respondents | Number of responses/respondent | Avg. burden/response (in hours) | Total burden (in hours)
U.S. Adults | 3,000 | 1 | 5/60 | 250
Total |  |  |  | 250

Dated: September 25, 2003.
Nancy E. Cheal,
Acting Associate Director for Policy, Planning and Evaluation, Centers for Disease Control and Prevention.

[FR Doc. 03-24836 Filed 9-30-03; 8:45 am]

BILLING CODE 4163-18-P